DEPARTMENT OF ENERGY

Federal Energy Regulatory Commission

Combined Notice of Filings #1

Take notice that the Commission received the following electric corporate filings:

Docket Numbers: EC13-143-000.

Applicants: Seneca Generation, LLC, Lake Lynn Generation, LLC, All Dams Generation, LLC, PE Hydro Generation, LLC, FirstEnergy Service Company.

Description: Joint Application for Authorization under Section 203 of the Federal Power Act and Requests for Waivers, Confidential Treatment, and Expedited Action of Seneca Generation, LLC, et al.

Filed Date: 9/4/13.

Accession Number: 20130904-5136.

Comments Due: 5 p.m. ET 9/25/13.

Take notice that the Commission received the following electric rate filings:

Docket Numbers: ER13-1489-001.

Applicants: Quantum Lake Power, LP.

Description: Notice of Non-Material Change in Status of Quantum Lake Power, LP.

Filed Date: 9/3/13.

Accession Number: 20130903-5144.

Comments Due: 5 p.m. ET 9/24/13.

Docket Numbers: ER13-2307-000.

Applicants: Midcontinent Independent System Operator, Inc.

Description: 09-03-2013 SA 2491 Hazleton-Mitchell Amend MPFCA to be effective 9/4/2013.

Filed Date: 9/3/13.

Accession Number: 20130903-5112.

Comments Due: 5 p.m. ET 9/24/13.

Docket Numbers: ER13-2308-000.

Applicants: Sapphire Power Marketing LLC.

Description: Application for Market-Based Rate Authorization to be effective 9/4/2013.

Filed Date: 9/3/13.

Accession Number: 20130903-5115.

Comments Due: 5 p.m. ET 9/24/13.

Docket Numbers: ER13-2309-000.

Applicants: PacifiCorp.

Description: BPA Construction Agreement (Summer Lake PMU) to be effective 9/4/2013.

Filed Date: 9/3/13.

Accession Number: 20130903-5133.

Comments Due: 5 p.m. ET 9/24/13.

Docket Numbers: ER13-2310-000.

Applicants: Midcontinent Independent System Operator, Inc.

Description: Annual Calculation of the Cost of New Entry value (CONE) for each Local Resource Zone (LRZ) in the MISO Region of Midcontinent Independent System Operator, Inc.

Filed Date: 9/3/13.

Accession Number: 20130903-5143.

Comments Due: 5 p.m. ET 9/24/13.

Docket Numbers: ER13-2312-000.

Applicants: Puget Sound Energy, Inc.

Description: Puget Sound Energy, Inc. submits Average System Cost Filing for Sales of Electric Power to the Bonneville Power Administration, FY 2014-2015.

Filed Date: 9/4/13.

Accession Number: 20130904-5075.

Comments Due: 5 p.m. ET 9/25/13.

Docket Numbers: ER13-2313-000.

Applicants: ISO New England Inc., New England Power Pool Participants Committee.

Description: ISO New England Inc. submits tariff filing per 35.13(a)(2)(iii: Market Rule Changes to Modify Shortage Event Definition to be effective 11/3/2013.

Filed Date: 9/4/13.

Accession Number: 20130904-5090.

Comments Due: 5 p.m. ET 9/25/13.

Docket Numbers: ER13-2314-000.

Applicants: Arizona Public Service Company.

Description: Eldorado Moenkopi 500kV Agreement—Certificate of Concurrence RS 269 to be effective 9/16/2013.

Filed Date: 9/4/13.

Accession Number: 20130904-5105.

Comments Due: 5 p.m. ET 9/25/13.

Docket Numbers: ER13-2315-000.

Applicants: Pennsylvania Electric Company, PJM Interconnection, L.L.C.

Description: FirstEnergy and Penelec submit First Revised Service Agreement No. 3596 to be effective 12/31/9998.

Filed Date: 9/4/13.

Accession Number: 20130904-5117.

Comments Due: 5 p.m. ET 9/25/13.

Docket Numbers: ER13-2316-000.

Applicants: Seneca Generation, LLC.

Description: Application for Market-Based Rate Authorization to be effective 9/5/2013.

Filed Date: 9/4/13.

Accession Number: 20130904-5120.

Comments Due: 5 p.m. ET 9/25/13.

Docket Numbers: ER13-2317-000.

Applicants: Lake Lynn Generation, LLC.

Description: Lake Lynn Generation, LLC submits Application for Market-Based Rate Authorization to be effective 9/5/2013.

Filed Date: 9/4/13.

Accession Number: 20130904-5126.

Comments Due: 5 p.m. ET 9/25/13.

Docket Numbers: ER13-2318-000.

Applicants: All Dams Generation, LLC.

Description: All Dams Generation, LLC submits Application for Market-Based Rate Authorization to be effective 9/5/2013.

Filed Date: 9/4/13.

Accession Number: 20130904-5129.

Comments Due: 5 p.m. ET 9/25/13.

Docket Numbers: ER13-2319-000.

Applicants: PE Hydro Generation, LLC.

Description: PE Hydro Generation, LLC submits Application for Market-Based Rate Authorization to be effective 9/5/2013.

Filed Date: 9/4/13.

Accession Number: 20130904-5130.

Comments Due: 5 p.m. ET 9/25/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 4, 2013.
Nathaniel J. Davis, Sr.,
Deputy Secretary.

[FR Doc. 2013-22092 Filed 9-10-13; 8:45 am]

BILLING CODE 6717-01-P